DEPARTMENT OF DEFENSE

Department of the Air Force

Proposed Collection; Comment Request

AGENCY: Department of the Air Force, DoD.

ACTION: Notice.

In compliance with section 3506(c)(2)(A) of the Paperwork Reduction Act of 1995, Headquarters Air Force Reserve Officer Training Corps announces the proposed renewal of a currently approved public information collection and seeks public comment on the provisions thereof. Comments are invited on: (a) Whether the proposed collection of information is necessary for the proper performance of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received by November 21, 2000.

ADDRESSES: Written comments and recommendations on the proposed information collections should be sent to HQ AFROTC/RRU, 551 East Maxwell Boulevard, Maxwell AFB, AL 36112-6106. Comments can also be submitted via e-mail to kyle.monson@maxwell.af.mil.

FOR FURTHER INFORMATION CONTACT: To request more information on this proposed collection or to obtain a copy of the proposal and associated collection instruments, please write to the above addresses or call (334) 953-2829.

Title, Associated Form, and OMB Number: Air Force ROTC College Scholarship Application, OMB Number 0701-0101.

Needs and Uses: The information collection requirement is used by the Air Force to identify the best-qualified applicants for the scholarship, providing for a “whole person” evaluation.

Affected Public: High school seniors and recent graduates who apply for an Air Force ROTC scholarship.

Annual Burden Hours: 4,000.

Number of Respondents: 8,000.

Responses Per Respondent: 1.

Average Burden Per Response: 30 Minutes.

Frequency: Annual.

SUPPLEMENTARY INFORMATION:

Summary of Information Collection

Respondents will be high school seniors and recent graduates who apply for an Air Force ROTC college scholarship. A twelve-page scannable application will be provided to applicants by Air Force recruiting personnel or can be mailed directly to the applicant. This application will require approximately 30 minutes to complete. Respondents will have the option of completing the application on the Air Force ROTC internet homepage instead of returning the hardcopy survey form. Submitted data will be evaluated by Air Force ROTC College Scholarship Program selection boards to determine eligibility and to select individuals for the award of a college scholarship.

Janet A. Long,
Air Force Federal Register Liaison Officer.

[FR Doc. 00-21533 Filed 8-22-00; 8:45 am]

BILLING CODE 5001-05-U